ENVIRONMENTAL PROTECTION AGENCY

40 CFR Part 180

[EPA-HQ-OPP-2015-0032; FRL-9924-00]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before May 6, 2015.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov., Susan Lewis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerance

1. PP 3F8206. (EPA-HQ-OPP-2014-0852). Syngenta Crop Protection, LLC, 410 Swing Road, P.O. Box 18300, Greensboro, NC 27419, requests to establish tolerances in 40 CFR part 180 for residues of the herbicide safener fluxofenim (CAS Reg. No. 88485-37-4) in or on the raw agricultural commodities grain sorghum, grain; grain sorghum, forage; and grain sorghum, fodder at 0.01; 0.01; and 0.01 parts per million (ppm), respectively. The analytical method high performance liquid chromatography with triple quadrupole mass spectrometric detection (LC-MS/MS) is used to measure and evaluate the pesticide residues. Contact: RD.

2. PP 4E8328. (EPA-HQ-OPP-2014-0878). Interregional Research Project Number 4 (IR-4), 500 College Road East, Suite 201 W, Princeton, NJ 08540, requests to establish a tolerance in 40 CFR part 180 for residues of the herbicide fluazifop-p-butyl in or on the raw agricultural commodities: Lettuce, head and leaf at 5.0 parts per million (ppm); strawberry at 3.0 ppm; onion, green at 1.5 ppm; caneberry subgroup 13-07A at 0.05 ppm; bushberry subgroup 13-07B at 0.3 ppm; tuberous and corm vegetables (except for potato) subgroup 1D at 1.5 ppm; small fruit vine climbing, except for fuzzy kiwifruit subgroup 13-07F, 0.03 ppm; and onion, bulb subgroup 3-07A at 0.5 ppm as well as tolerances with regional registration for grass hay at 15 ppm; and grass forage at 4.0 ppm. Upon the approval of the aforementioned tolerances, IR-4 requests removal of the existing tolerances for grape at 0.01 ppm; onion, bulb at 0.5 ppm; and sweet potato, roots at 0.05 ppm. Analytical methodology has been developed and validated for enforcement purposes. This method has been submitted to the Agency and is in PAM Vol. II, Method II. Contact: RD.

3. PP 4E8335. (EPA-HQ-OPP-2014-0922). Interregional Research Project Number 4 (IR-4), 500 College Road East, Suite 201 W, Princeton, NJ 08540, requests to establish a tolerance in 40 CFR part 180 for residues of the sum of zoxamide (3, 5-dichloro-N-(3-chloro-1-ethyl-1-methyl-2-oxopropyl)-4-methylbenzamide) and its metabolites 3,5-dichloro-1,4-benzenedicarboxylic acid (RH-1455 and RH-141455) and 3,5-dichloro-4-hydroxymethylbenzoic acid (RH-1452 and RH-141452) calculated as the stoichiometric equivalent of zoxamide in or on the raw agricultural commodity ginseng at 0.30 parts per million (ppm) and vegetable, tuberous and corm, subgroup 1C at 0.060 ppm. In addition, IR-4 requests to establish tolerances for residues, determined by measuring only zoxamide (3,5-dichloro-N-(3-chloro-1-ethyl-1-methyl-2-oxypropyl)-4-methylbenzamide, in or on raw agricultural commodity tomato subgroup 8-10A at 2.0 ppm and fruit, small, vine climbing, except fuzzy kiwifruit, subgroup 13-07F at 5.0 ppm. IR-4 also proposes, upon the approval of the aforementioned tolerances, to remove established tolerances for grape at 3.0 ppm; tomato at 2.0 ppm; and potato at 0.060 ppm. Adequate enforcement methodology is available to enforce the tolerance expression. Contact: RD.

4. PP 4F8253. (EPA-HQ-OPP-2014-0679). ISK Biosciences Corporation, 7470 Auburn Road, Suite A, Concord, OH 44077, requests to establish a tolerance in 40 CFR part 180 for residues of the insecticide, cyclaniliprole, in or on Pome Fruit (Crop Group 11-10) at 0.3 parts per million (ppm), Tree Nuts (Crop Group 14-12) at 0.02 ppm, Stone Fruit (Crop Group 12-12) at 0.7 ppm Fruiting Vegetables, (Crop Group 8-10) at 0.2 ppm, Cucurbit Vegetables, (Crop Group 9) at 0.2 ppm, Small Fruit Vine Climbing Subgroup except Fuzzy Kiwifruit (Crop Group 13-07F), at 0.9 ppm. Additionally tolerances are proposed for the crops in the proposed Crop Subgroup 4-14A, Leafy greens subgroup at 7.0 ppm including amaranth, Chinese; amaranth, leafy; aster, Indian; blackjack; cat's whiskers; chervil, fresh leaves; cham-chwi; cham-namul; chipilin; chrysanthemum, garland; cilantro, fresh leaves; corn salad; cosmos; dandelion; dang-gwi; dillweed; dock; dol-nam-mul; ebolo; endive; escarole; fameflower; feather cockscomb; good king henry; huauzontle; jute, leaves; lettuce, bitter; lettuce, head; lettuce, leaf; orach; parsley, fresh leaves; plantain, buckhorn; primrose, English; purslane, garden; purslane, winter; radicchio; spinach; spinach, malabar; spinach, New Zealand; spinach, tanier; swiss chard; and violet, Chinese; crops in the proposed Crop Subgroup 4-14B, Brassica leafy greens subgroup at 15 ppm including Arugula; broccoli raab; broccoli, Chinese; cabbage, abyssinian; cabbage, seakale; Chinese cabbage, bok choy; collards; cress, garden; cress, upland; hanover salad; kale; maca; mizuna; mustard greens; radish, leaves; rape greens; rocket, wild; shepherd's purse; turnip greens; and watercress; crops in the proposed Crop Subgroup 22B, Leaf petiole vegetable subgroup at 7.0 ppm including Cardoon; celery; celery, Chinese; fuki; rhubarb; udo; zuiki and the crops in the proposed Crop Group 5-14: Brassica Head and Stem Vegetable at 1.5 ppm including broccoli; Brussels sprouts; cabbage; cabbage, Chinese, napa; and cauliflower. Tolerances are also proposed for the animal feed commodities Almond, hulls at 8.0 parts per million (ppm), Apple, wet pomace at 0.96 parts per million (ppm), in animal tissues and meat by products: Cattle, fat at 0.08 ppm; cattle, kidney at 0.08 ppm; cattle, liver at 0.1 ppm; cattle, meat at 0.02 ppm; cattle, meat byproducts at 0.02 ppm; goat, fat at 0.08 ppm; goat, kidney at 0.08 ppm; goat, liver at 0.1 ppm; goat, meat at 0.02 ppm; goat, meat byproducts at 0.02 ppm; horse, fat at 0.08 ppm; horse, kidney at 0.08 ppm; horse, liver at 0.1 ppm; horse, meat at 0.02 ppm; horse, meat byproducts at 0.02 ppm; milk at 0.01 ppm; sheep, fat at 0.08 ppm; sheep, kidney at 0.08 ppm; sheep, liver at 0.1 ppm; sheep, meat at 0.02 ppm; and sheep, meat byproducts at 0.02 ppm and for the import commodity Tea (dried and instant) at 40 parts per million (ppm). The analytical method Liquid Chromatography-MS/MS is used to measure and evaluate the pesticide residues. Contact: RD.

5. PP 4F8308. (EPA-HQ-OPP-2014-0913). SePRO Corporation, 11550 North Meridian Street, Suite 600, Carmel, IN 46032, requests to establish a tolerance in 40 CFR part 180 for residues of the herbicide, fluridone, in or on cotton, undelinted seed at 0.1 parts per million (ppm). The enzyme-linked immunosorbant assay (ELISA), high performance liquid chromatography with ultraviolet detection (HLPC/UV), and liquid chromatography with tandem mass spectroscopy (LC-MSMS) method is used to measure and evaluate the chemical residues. Contact: RD.

6. PP 4F8323. (EPA-HQ-OPP-2015-0014). Syngenta Crop Protection, LLC, 410 Swing Road, Greensboro, NC 27419, requests to establish a tolerance in 40 CFR part 180 for residues of the fungicide, mefenoxam, in or on Rapeseed Crop Subgroup 20A at 0.05 parts per million (ppm). The Novartis Crop Protection Method 456-98 and Ciba-Geigy Corporation Procedure AG-395 were used to measure and evaluate the chemical mefenoxam: methyl N-(2,6-dimethylphenyl)-N-(methoxyacetyl)-DL-alaninate. Contact: RD.

New Tolerance Exemption

1. PP IN-10699. (EPA-HQ-OPP-2014-0449). Exponent, 1150 Connecticut Ave. NW., Washington, DC 20036, on behalf of ISK Biosciences Corporation, 7470 Auburn Road, Suite A, Concord, OH 44077, requests to establish an exemption from the requirement of a tolerance for residues of 1,2-propanediol,3-[3-[1,3,3,3-tetramethyl-1-[(trimethylsilyl)ocy]-1-disiloxanyl]propoxy]- (CAS Reg. No. 70280-68-1), when used as a pesticide inert ingredient in pesticide formulations applied to growing crops only under 40 CFR 180.920. The petitioner believes no analytical method is needed because it is not required for an exemption from the requirement of a tolerance. Contact: RD.

2. PP IN-10771. (EPA-HQ-OPP-2014-0853). Exponent, 1150 Connecticut Ave. NW., Washington, DC 20036, on behalf of Cheminova A/S, 1600 Wilson Boulevard, Suite 700, Arlington, VA 22209, requests to establish an exemption from the requirement of a tolerance for residues of maleic anhydride (CAS Reg. No. 108-31-6), when used as an inert ingredient in pesticide formulations applied to growing crops only under 40 CFR 180.920. The petitioner believes no analytical method is needed because it is not required for an exemption from the requirement of a tolerance. Contact: RD.

3. PP IN-10775. (EPA-HQ-OPP-2015-0143). Syngenta Crop Protection, P.O. Box 18300, Greensboro, NC, requests to establish an exemption from the requirement of a tolerance for residues of propylene glycol monomethyl ether (CAS Reg. No. 107-98-2) when used as an inert ingredient in pesticide formulations applied to growing crops and raw agricultural commodities after harvest under 40 CFR 180.910. The petitioner believes no analytical method is needed because it is not required for exemption from the requirement of a tolerance. Contact: RD.

4. PP IN-10777. (EPA-HQ-OPP-2015-0019). Ag-Chem Consulting, LLC, 12208 Quinque Lane, Clifton, VA 20124 on behalf of Omex Agrifluids, 24730 Avenue 13, Madera, CA 93637, requests to establish an exemption from the requirement of a tolerance for residues of salicylaldehyde (2-hydroxybenzaldehyde) (CAS Reg. No. 90-02-8) when used as an inert ingredient in pesticide formulations at no more than 14% of the pesticide formulation. The petitioner believes no analytical method is needed because it is it is not required for an exemption from the requirement of a tolerance. Contact: RD.

5. PP IN-10780. (EPA-HQ-OPP-2015-0020). Technology Sciences Group, Inc., 1150 18th Street NW., Suite 1000, Washington, DC 20036, on behalf of BYK Additives Inc., 1600 W. Hill Street, Louisville, KY 40210, requests to establish an exemption from the requirement of a tolerance for residues of quaternary ammonium compounds, benzylbis(hydrogenated tallow alkyl)methyl, bis(hydrogenated tallow alkyl)dimethylammonium salts with saponite (CAS Reg. No. 1588523-05-0), when used as an inert ingredient in pesticide formulations applied to growing crops only under 40 CFR 180.920. The petitioner believes no analytical method is needed because it is not required for an exemption from the requirement of a tolerance. Contact: RD.

6. PP IN-10781. (EPA-HQ-OPP-2015-0018). Technology Sciences Group, Inc., 1150 18th Street NW., Suite 1000, Washington, DC 20036, on behalf of BYK Additives, Inc., 1600 W. Hill Street, Louisville, KY 40210, requests to establish an exemption from the requirement of a tolerance for residues for quaternary ammonium compounds, benzylbis(hydrogenated tallow alkyl)methyl, bis(hydrogenated tallow alkyl)dimethylammonium salts with sepiolite (CAS Reg. No. 1574487-61-8), when used as an inert ingredient in pesticide formulations applied to growing crops only under 40 CFR 180.920. The petitioner believes no analytical method is needed because it is not required for an exemption from the requirement of a tolerance. Contact: RD.

7. PP IN-10784. (EPA-HQ-OPP-2015-0064). Momentive Performance Materials, 260 Hudson River Rd., Waterford, NY 12188, on behalf of the Dow Chemical Company, 2301 N. Brazosport Blvd., Freeport, TX 77541, requests to establish an exemption from the requirement of a tolerance for residues of acrylic acid, butyl acrylate, styrene copolymer (CAS Reg. No. 25586-20-3) with a minimum number average molecular weight (in amu) of 5,200, when used as an inert ingredient in pesticide formulations under 40 CFR 180.960. The petitioner believes no analytical method is needed because it is not required for an exemption from the requirement of a tolerance. Contact: RD.

Amended Tolerance Exemption

1. PP 2E8080. (EPA-HQ-OPP-2013-0098). Toxcel, LLC, 7140 Heritage Village Plaza, Gainesville, VA 20156 on behalf of Penn A Kem, LLC, 3324 Chelsea Avenue, Memphis, TN 38108, requests to amend an exemption from the requirement of a tolerance in 40 CFR 180.1263 for residues of tetrahydrofurfuryl alcohol (THFA), (CAS Reg. No. 97-99-4), when used as a pesticide inert ingredient (solvent/co-solvent), to include allowance of one herbicide application prior to the preboot stage to wheat, buckwheat, barley, oats, rye, sorghum, triticale, rice and wild rice; extended use on canola to the early bolting stage; extended use on soybeans up to the bloom growth stage; and allowance of use in herbicides with two applications to field corn and pop corn up to 36 inches tall (V8 stage). The petitioner believes no analytical method is needed because it is not required for the amendment of an exemption from the requirement of a tolerance. Contact: RD.

2. PP 4F8336. (EPA-HQ-OPP-2008-0762). BASF Corporation, 26 Davis Dr., Research Triangle Park, NC 27709, requests to amend an exemption from the requirement of a tolerance in 40 CFR 180.1128 for residues of the biofungicide, Bacillus amyloliquefaciens MBI 600 (antecedent Bacillus subtilis MBI 600), in or on all food commodities, including residues resulting from post-harvest uses, when applied or used in accordance with good agricultural practices. The petitioner believes no analytical method is needed because Bacillus amyloliquefaciens MBI 600 (antecedent Bacillus subtilis MBI 600) has an exemption from the requirement of a tolerance without numerical limitations. Contact: BPPD.

Amended Tolerance

PP 4E8328. (EPA-HQ-OPP-2014-0878). Interregional Research Project Number 4 (IR-4), 500 College Road East, Suite 201 W, Princeton, NJ 08540, requests to amend the existing tolerance in 40 CFR part 180.411 for residues of the herbicide fluazifop-p-butyl in or on rhubarb, from 0.5 parts per million (ppm) to 0.4 ppm. Analytical methodology has been developed and validated for enforcement purposes. This method has been submitted to the Agency and is in PAM Vol. II, Method II. Contact: RD.

Authority: 21 U.S.C. 346a.

Dated: March 30, 2015.
Susan Lewis,
Director, Registration Division, Office of Pesticide Programs.

[FR Doc. 2015-07828 Filed 4-3-15; 8:45 am]

BILLING CODE 6560-50-P